DEPARTMENT OF LABOR

Mine Safety and Health Administration

30 CFR Parts 56, 57, 75, and 77

[Docket No. MSHA-2025-0086]

RIN 1219-AC20

Trolleys

AGENCY: Mine Safety and Health Administration (MSHA), Department of Labor.

ACTION: Proposed rule; request for comments.

SUMMARY: MSHA is proposing to remove and revise provisions for metal and nonmental (MNM) mines and coal mines regarding the use of trolleys for transportation of mined ore, coal, material, and personnel. Trolleys are an outdated technology that have been replaced by more efficient belt conveyor haulage systems for transporting mined ore and coal. Diesel and battery-operated mobile equipment are now used to transport personnel and equipment. Trolleys are no longer used in MNM or coal mines and there is no anticipated future use of this legacy equipment in MNM and coal mines.

DATES: Comments must be received on or before July 31, 2025.

ADDRESSES: All submissions must include RIN 1219-AC20 or Docket No. MSHA-2025-0086. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AC20 or Docket No. MSHA-2025-0086, by any of the following methods:

1. Federal E-Rulemaking Portal: https://www.regulations.gov. Follow the online instructions for submitting comments for MSHA-2025-0086.

2. Email: zzMSHA-comments@dol.gov. Include “RIN 1219-AC20” in the subject line of the message.

3. Regular Mail or Hand Delivery: MSHA, Office of Standards, Regulations, and Variances, Room C3522, 200 Constitution Avenue NW, Washington, DC 20210. Before visiting MSHA in person, call 202-693-9440 to make an appointment.

No telefacsimiles (“faxes”) will be accepted.

FOR FURTHER INFORMATION CONTACT: Jessica D. Senk, Acting Director, Office of Standards, Regulations, and Variances, MSHA, at 202-693-9440 (voice). This is not a toll-free number.

SUPPLEMENTARY INFORMATION:

I. Background

Trolleys were historically used in metal and nonmetal (MNM) and coal mines for transportation of mined ore, coal, equipment, and personnel. Trolleys typically consisted of a low carriage, mounted on wheels having a fixed in bearings trolley pole, pressing upward in rolling contact with an overhead trolley wire to take off electric current for operating a locomotive or other motorized equipment. The trolley wire was typically hung from the roof and this energized conductor was a constant source of danger to miners. Coverings of insulating materials were used to guard miners from direct contact with the wire. Energized trolley wires exposed miners to electrical hazards.

While various forms of trolleys were once common in mines, this equipment is no longer used and has been replaced by more efficient belt conveyor haulage systems, and diesel and battery-operated mobile equipment. Therefore, MSHA proposes to remove all references to trolleys in title 30 of the Code of Federal Regulations (30 CFR) parts 56, 57, 75, and 77. These proposed changes do not reduce protection for miners because miners no longer work on or around trolleys.

II. Discussion

A. Part 56—Safety and Health Standards—Surface Metal and Nonmetal Mines

In 30 CFR part 56, MSHA proposes to remove the following sections because trolleys are no longer in use at surface MNM mines; therefore, these sections are no longer necessary to protect the safety and health of miners. MSHA proposes to remove §§ 56.12042, 56.12050, 56.12053, and 56.14216.

Also, MSHA proposes to revise the following sections to remove references to trolleys. MSHA proposes to revise §§ 56.6203, 56.12065, 56.12066, and 56.12071.

B. Part 57—Safety and Health Standards—Underground Metal and Nonmetal Mines

In 30 CFR part 57, MSHA proposes to remove the following sections because trolleys are no longer used at underground MNM mines; therefore, these sections are no longer necessary to protect the safety and health of miners. MSHA proposes to remove §§ 57.6160(a)(6), 57.12042, 57.12050, 57.12053, 57.12081, 57.12086, 57.14160, and 57.14216.

Also, MSHA proposes to revise the following sections to remove references to trolleys. MSHA proposes to revise §§ 57.6160(a)(5), 57.6203, 57.12065, 57.12066, 57.12071, and 57.12080.

C. Part 75—Mandatory Safety Standards—Underground Coal Mines

In 30 CFR part 75, MSHA proposes to remove the following sections because trolleys are no longer used at underground coal mines; therefore, these sections are no longer necessary to protect the safety and health of miners. MSHA proposes to remove §§ 75.327, 75.360(b)(7), 75.371(v), 75.508-1, 75.510, 75.510-1, 75.518-2, 75.1000, 75.1001, 75.1001-1, 75.1003, 75.1003-1, 75.1003-2, 75.1106-2(b), 75.1311(b)(4), 75.1403-7(m), 75.1902(d)(2), and 75.1906(j).

MSHA proposes to revise the title of Subpart K to remove references to trolleys. MSHA also proposes to revise the following sections to remove references to trolleys: §§ 75.333(b)(4), 75.380(f)(2)(iii), 75.380(g), 75.508, 75.516-2(c), 75.517, 75.807, 75.1600-2, 75.1707-1, and 75.1902(d)(2).

D. Part 77—Mandatory Safety Standards, Surface Coal Mines and Surface Work Areas of Underground Coal Mines

In 30 CFR part 77, MSHA proposes to remove the following sections because trolleys are no longer used at surface coal mines and surface work areas of underground coal mines; therefore, these sections are no longer necessary to protect the safety and health of miners. MSHA proposes to remove subpart S, consisting of §§ 77.1800 through 77.1802.

MSHA seeks comment on any aspects of this proposed rule including whether MSHA should prohibit the use of trolleys.

III. Procedural Issues and Regulatory Review

A. Review Under Executive Orders 12866 and 13563

Executive Order (E.O.) 12866, “Regulatory Planning and Review” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

E.O. 13563, “Improving Regulation and Regulatory Review” 76 FR 3821 (Jan. 21, 2011), requires agencies to use the best available techniques to quantify anticipated present and future benefits and costs as accurately as possible. E.O. 13563 reaffirms the principles of E.O. 12866 while calling for improvements in the nation's regulatory system to promote predictability, reduce uncertainty, and use the best, most innovative, and least burdensome tools for achieving regulatory ends.

E.O. 12866 and E.O. 13563 direct agencies to assess all costs and benefits of available regulatory alternatives and, if regulation is necessary, to select regulatory approaches that maximize net benefits. E.O. 13563 emphasizes the importance of quantifying both costs and benefits, reducing costs, harmonizing rules, and promoting flexibility.

Under section 3(f) of E.O. 12866, a “significant regulatory action” is a regulatory action that is likely to result in a rule that may:

(1) have an annual effect on the economy of $100 million or more, or adversely affect in a material way he economy, a sector of the economy, productivity, competition, jobs, the environment, public health or safety, or state, local, or tribal governments or communities (also referred to as economically significant);

(2) create a serious inconsistency or otherwise interfere with an action taken or planned by another agency;

(3) materially alter the budgetary impact of entitlements, grants, user fees, or loan programs or the rights and obligations of recipients; or

(4) raise novel legal or policy issues arising out of legal mandates, the President's priorities, or the principles set forth in the E.O.

Under section 6(a) of E.O. 12866, the Office of Management and Budget's (OMB's) Office of Information and Regulatory Affairs (OIRA) determines whether a regulatory action is significant and whether Agencies are required to submit the regulatory action to OIRA for review. Removing the provisions concerning the use of trolleys in mines would not impose new compliance costs to mine operators or reduce the protections afforded to miners. This proposed rule is determined to not constitute a “significant regulatory action” because it does not meet any of the four “significant regulatory action” criteria under section 3(f) of E.O. 12866. Accordingly, this proposed rule was not submitted to OIRA for review under E.O. 12866.

No alternatives were considered for this proposed deregulatory action.

B. Review Under the Regulatory Flexibility Act

The Regulatory Flexibility Act (RFA) of 1980, as amended by the Small Business Regulatory Enforcement Fairness Act (SBREFA) of 1996, requires preparation of an Initial Regulatory Flexibility Analysis (IRFA) for any rule that by law must be proposed for public comment, unless the agency certifies that the rule, if promulgated, will not have a significant economic impact on a substantial number of small entities. The RFA defines small entities to include small businesses, small organizations, including not-for-profit organizations, and small governmental jurisdictions.

MSHA reviewed this proposed rule under the provisions of the RFA, which eliminates burdensome regulations. Therefore, MSHA initially concludes that the impacts of the proposed rule would not have a “significant economic impact on a substantial number of small entities,” and that the preparation of an IRFA is not warranted. MSHA will transmit this certification and supporting statement of factual basis to the Chief Counsel for Advocacy of the Small Business Administration for review under 5 U.S.C. 605(b).

C. Review Under the Paperwork Reduction Act

The Paperwork Reduction Act of 1995 (44 U.S.C. 3501 et seq.) provides for the Federal Government's collection, use, and dissemination of information. The goals of the Paperwork Reduction Act include minimizing paperwork and reporting burdens and ensuring the maximum possible utility from the information that is collected under 5 CFR part 1320. The Paperwork Reduction Act requires Federal agencies to obtain approval from OMB before requesting or requiring “a collection of information” from the public.

This proposed rule imposes no new information collection or record-keeping requirements. Accordingly, OMB clearance is not required under the Paperwork Reduction Act.

D. Review Under Executive Order 13132

E.O. 13132, “Federalism” 64 FR 43255 (August 10, 1999), imposes certain requirements on Federal agencies formulating and implementing policies or regulations that preempt State law or that have federalism implications. The E.O. requires agencies to examine the constitutional and statutory authority supporting any action that would limit the policymaking discretion of the States and to carefully assess the necessity for such actions. The E.O. also requires agencies to have an accountable process to ensure meaningful and timely input by State and local officials in the development of regulatory policies that have federalism implications.

MSHA has examined this proposal and has determined that it would not have a substantial direct effect on the States, on the relationship between the national government and the States, or on the distribution of power and responsibilities among the various levels of government.

E. Review Under Executive Order 12988

With respect to the review of existing regulations and the promulgation of new regulations, section 3(a) of E.O. 12988, “Civil Justice Reform” 61 FR 4729 (Feb. 7, 1996), imposes on Federal agencies the general duty to adhere to the following requirements: (1) eliminate drafting errors and ambiguity; (2) write regulations to minimize litigation; (3) provide a clear legal standard for affected conduct rather than a general standard; and (4) promote simplification and burden reduction. Regarding the review required by section 3(a), section 3(b) of E.O. 12988 specifically requires that Executive agencies make every reasonable effort to ensure that the regulation: (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General.

Section 3(c) of E.O. 12988 requires Executive agencies to review regulations in light of applicable standards in section 3(a) and section 3(b) to determine whether they are met or it is unreasonable to meet one or more of them. MSHA has completed the required review and determined that, to the extent permitted by law, this proposal meets the relevant standards of E.O. 12988.

F. Review Under the Unfunded Mandates Reform Act

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)). The UMRA also requires a Federal agency to develop an effective process to permit timely input by elected officers of State, local, and Tribal governments on a “significant intergovernmental mandate,” and requires an agency plan for giving notice and opportunity for timely input to potentially affected small governments before establishing any requirements that might significantly or uniquely affect them.

MSHA examined this proposed rule according to UMRA and its statement of policy and determined that the proposal does not contain a Federal intergovernmental mandate, nor is it expected to require expenditures of $100 million or more in any one year by State, local, and Tribal governments, in the aggregate, or by the private sector. As a result, the analytical requirements of UMRA do not apply.

G. Review Under the National Environmental Policy Act

The National Environmental Policy Act (NEPA) of 1969 (42 U.S.C. 4321 et seq.), requires each Federal agency to consider the environmental effects of regulatory actions and to prepare an environmental impact statement on Agency actions that would significantly affect the quality of the environment; unless the action is considered categorically excluded under 29 CFR 11.10. MSHA has reviewed the proposed rule in accordance with NEPA requirements and the Department of Labor's NEPA procedures (29 CFR part 11). As a result of this review, MSHA has determined that this proposed rule would not impact air, water, or soil quality, plant or animal life, the use of land or other aspects of the human environment. Therefore, MSHA has not conducted an environmental assessment nor provided an environmental impact statement.

H. Review Under the Treasury and General Government Appropriations Act, 1999

Section 654 of the Treasury and General Government Appropriations Act, 1999 (Pub. L. 105-277) requires Federal agencies to issue a Family Policymaking Assessment for any rule that may affect family well-being. This proposal would not have any impact on the autonomy or integrity of the family as an institution. Accordingly, MSHA has concluded that it is not necessary to prepare a Family Policymaking Assessment.

I. Review Under Executive Order 12630

Pursuant to E.O. 12630, “Governmental Actions and Interference with Constitutionally Protected Property Rights” 53 FR 8859 (March 18, 1988), MSHA has determined that this proposal would not result in any takings that might require compensation under the Fifth Amendment to the U.S. Constitution.

J. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). MSHA has reviewed this proposal and has concluded that it is consistent with applicable policies in the OMB guidelines.

K. Review Under Executive Order 13175

E.O. 13175, “Consultation and Coordination With Indian Tribal Governments” 65 FR 67249 (Nov. 9, 2000), requires agencies to consult with tribal officials when developing policies that may have “tribal implications.” This proposed rule does not have “tribal implications” because it will not “have substantial direct effects on one or more Indian tribes, on the relationship between the Federal Government and Indian tribes, or on the distribution of power and responsibilities between the Federal Government and Indian tribes.” Accordingly, under E.O. 13175, no further Agency action or analysis is required.

L. Review Under Executive Order 13211

E.O. 13211, “Actions Concerning Regulations That Significantly Affect Energy Supply, Distribution, or Use” 66 FR 28355 (May 22, 2001), requires agencies to publish a statement of energy effects when a rule has a significant energy action that adversely affects energy supply, distribution, or use. MSHA has reviewed this proposed rule for its energy effects. For the energy analysis, this proposed rule will not exceed the relevant criteria for adverse impact.

K. Review Under Additional Executive Orders and Presidential Memoranda

MSHA has examined this proposal and has determined that it is consistent with the policies and directives outlined in E.O. 14154, “Unleashing American Energy” 90 FR 8353 (Jan. 29, 2025); E.O. 14192, “Unleashing Prosperity Through Deregulation” 90 FR 9065 (Feb. 6, 2025); and the Presidential Memorandum, “Delivering Emergency Price Relief for American Families and Defeating the Cost-of-Living Crisis” 90 FR 8245 (Jan. 28, 2025). This proposal is expected to be an E.O. 14192 deregulatory action.

List of Subjects

30 CFR Part 56

Chemicals, Electric power, Explosives, Fire prevention, Hazardous substances, Metal and nonmetal mining, Mine safety and health, Noise control, Reporting and recordkeeping requirements, Surface mining.

30 CFR Part 57

Chemicals, Electric power, Explosives, Fire prevention, Gases, Hazardous substances, Metal and nonmetal mining, Mine safety and health, Noise control, Radiation protection, Reporting and recordkeeping requirements, Underground mining.

30 CFR Part 75

Electric power, Mandatory safety standards, Mine safety and health, Reporting and recordkeeping requirements, Training, Underground coal mines.

30 CFR Part 77

Communications equipment, Electric power, Emergency medical services, Explosives, Fire prevention, Mine safety and health, Mines, Reporting and recordkeeping requirements, Surface mining, Underground mining.

For the reasons set forth in the preamble, and under the authority of the Federal Mine Safety and Health Act of 1977, as amended by the Mine Improvement and New Emergency Response Act of 2006, MSHA proposes to amend chapter I of title 30 of the Code of Federal Regulations as follows:

SUBCHAPTER K—METAL AND NONMETAL MINE SAFETY AND HEALTH

PART 56—SAFETY AND HEALTH STANDARDS—SURFACE METAL AND NONMETAL MINES

1. The authority citation for part 56 continues to read as follows:

Authority: 30 U.S.C. 811

Subpart E—Explosives

2. Revise § 56.6203 to read as follows:

§ 56.6203 Locomotives.

Explosive material shall not be transported on a locomotive.

Subpart K—Electricity

§ 56.12042 [Removed and Reserved]

3. Remove and reserve § 56.12042.

§ 56.12050 [Removed and Reserved]

4. Remove and reserve § 56.12050.

§ 56.12053 [Removed and Reserved]

5. Remove and reserve § 56.12053.

6. Revise § 56.12065 to read as follows:

§ 56.12065 Short circuit and lightning protection.

Powerlines and telephone circuits shall be protected against short circuits and lightning.

7. Revise the heading and text for § 56.12066 to read as follows:

§ 56.12066 Guarding bare powerlines.

Where metallic tools or equipment can come in contact with bare powerlines, the lines shall be guarded or deenergized.

8. Revise § 56.12071 to read as follows:

§ 56.12071 Movement or operation of equipment near high-voltage power lines.

When equipment must be moved or operated near energized high-voltage powerlines and the clearance is less than 10 feet, the lines shall be deenergized or other precautionary measures shall be taken.

Subpart M—Machinery and Equipment

§ 56.14216 [Removed and Reserved]

9. Remove and reserve § 56.14216.

PART 57—SAFETY AND HEALTH STANDARDS—UNDERGROUND METAL AND NONMETAL MINES

10. The authority citation for part 57 continues to read as follows:

Authority: 30 U.S.C. 811.

Subpart E—Explosives

11. Amend § 57.6160 by:

a. Revising paragraph (a)(5), and

b. Removing and reserving paragraph (a)(6).

The revision reads as follows:

§ 57.6160 Main facilities.

(a) * * *

(5) At least 50 feet from electric substations; and

(6) [Reserved]

* * * * *

12. Revise § 57.6203 to read as follows:

§ 57.6203 Locomotives.

Explosive material shall not be transported on a locomotive.

Subpart K—Electricity

§ 57.12042 [Removed and Reserved]

13. Remove and reserve § 57.12042.

§ 57.12050 [Removed and Reserved]

14. Remove and reserve § 57.12050.

§ 57.12053 [Removed and Reserved]

15. Remove and reserve § 57.12053.

16. Revise § 57.12065 to read as follows:

§ 57.12065 Short circuit and lightning protection.

Powerlines and telephone circuits shall be protected against short circuits and lightning.

17. Revise the heading and text for § 57.12066 to read as follows:

§ 57.12066 Guarding bare powerlines.

Where metallic tools or equipment can come in contact with bare powerlines, the lines shall be guarded or deenergized.

18. Revise § 57.12071 to read as follows:

§ 57.12071 Movement or operation of equipment near high-voltage power lines.

When equipment must be moved or operated near energized high-voltage powerlines and the clearance is less than 10 feet, the lines shall be deenergized or other precautionary measures shall be taken.

19. Revise § 57.12080 to read as follows:

§ 57.12080 Bare conductor guards.

Bare power conductors shall be guarded at mantrip loading and unloading points, and at shaft stations. Where such bare power conductors are less than 7 feet above the rail, they shall be guarded at all points where persons work or pass regularly beneath.

§ 57.12081 [Removed and Reserved]

20. Remove and reserve § 57.12081.

§ 57.12086 [Removed and Reserved]

21. Remove and reserve § 57.12086.

Subpart M—Machinery and Equipment

§ 57.14160 [Removed and Reserved]

22. Remove and reserve § 57.14160.

§ 57.14216 [Removed and Reserved]

23. Remove and reserve § 57.14216.

SUBCHAPTER O—COAL MINE SAFETY AND HEALTH

PART 75—MANDATORY SAFETY STANDARDS—UNDERGROUND COAL MINES

24. The authority citation for part 75 continues to read as follows:

Authority: 30 U.S.C. 811, 813(h), and 957.

Subpart D—Ventilation

§ 75.327 [Removed and Reserved]

25. Remove and reserve § 75.327.

26. In § 75.333, revise paragraph (b)(4) to read as follows:

§ 75.333 Ventilation controls.

* * * * *

(b) * * *

(4) To separate the primary escapeway from belt haulage entries, as required by § 75.380(g). For the purposes of § 75.380(g), the loading point for a continuous haulage system shall be the outby most point of travel of the dolly or 600 feet from the point of deepest penetration, whichever distance is less; and

* * * * *

§ 75.360 [Amended]

27. In § 75.360, remove and reserve paragraph (b)(7).

§ 75.371 [Amended].

28. In § 75.371, remove and reserve paragraph (v).

29. In § 75.380, revise paragraphs (f)(2)(iii) and (g) to read as follows:

§ 75.380 Escapeways; bituminous and lignite mines.

* * * * *

(f) * * *

(2) * * *

(iii) Effective as of June 10, 1997, to all areas of the primary escapeway developed prior to March 30, 1970 where separation of the belt haulage entries from the primary escapeway existed prior to November 16, 1992.

* * * * *

(g) Except where separation of belt haulage entries from designated escapeways did not exist before November 15, 1992, and except as provided in § 75.350(c), the primary escapeway must be separated from belt haulage entries for its entire length, to and including the first connecting crosscut outby each loading point except when a greater or lesser distance for this separation is specified and approved in the mine ventilation plan and does not pose a hazard to miners.

* * * * *

Subpart F—Electrical Equipment—General

30. Revise § 75.508 to read as follows:

§ 75.508 Map of electrical system.

[Statutory Provisions]

The location and the electrical rating of all stationary electric apparatus in connection with the mine electric system, including permanent cables, switchgear, rectifying substations, transformers, and permanent pumps, shall be shown on a mine map. Any changes made in a location, electric rating, or setting shall be promptly shown on the map when the change is made. Such map shall be available to an authorized representative of the Secretary and to the miners in such mine.

§ 75.508-1 [Removed and Reserved]

31. Remove and reserve § 75.508-1.

§ 75.510 [Removed and Reserved]

32. Remove and reserve § 75.510.

§ 75.510-1 [Removed and Reserved]

33. Remove and reserve § 75.510-1.

34. In § 75.516-2, revise paragraph (c) to read as follows:

§ 75.516-2 Communication wires and cables; installation; insulation; support.

* * * * *

(c) Additional insulation shall be provided for communication circuits at points where they pass over or under any power conductor.

* * * * *

35. Revise § 75.517 to read as follows:

§ 75.517 Power wires and cables; insulation and protection.

[Statutory Provisions]

Power wires and cables shall be insulated adequately and fully protected.

§ 75.518-2 [Removed and Reserved]

36. Remove and reserve § 75.518-2.

Subpart I—Underground High-Voltage Distribution

37. Revise § 75.807 to read as follows:

§ 75.807 Installation of high-voltage transmission cables.

[Statutory Provisions]

All underground high-voltage transmission cables shall be installed only in regularly inspected air courses and haulageways, and shall be covered, buried, or placed so as to afford protection against damage, guarded where people regularly work or pass under them unless they are 6½ feet or more above the floor or rail, securely anchored, properly insulated, and guarded at ends, and covered, insulated, or placed to prevent contact with low-voltage circuits.

38. Revise the title of Subpart K to read as follows:

Subpart K—Electrical Equipment—Pillar Workings and Longwalls

§ 75.1000 [Removed and reserved]

§ 75.1001 [Removed and reserved]

§ 75.1001-1 [Removed and reserved]

§ 75.1003 [Removed and reserved]

§ 75.1003-1 [Removed and reserved]

§ 75.1003-2 [Removed and reserved]

39. Remove and reserve §§ 75.1000, 75.1001, 75.1001-1, 75.1003, 75.1003-1, and 75.1003-2.

Subpart L—Fire Protection

§ 75.1106-2 [Amended]

40. In § 75.1106-2, remove and reserve paragraph (b).

Subpart N—Explosives and Blasting

§ 75.1311 [Amended]

41. In § 75.1311, remove paragraph (b)(4).

Subpart O—Hoisting and Mantrips

§ 75.1403-7 [Amended]

42. In § 75.1403-7, remove and reserve paragraph (m).

Subpart Q—Communications

43. Amend § 75.1600-2 by:

a. Revising paragraph (c); and

b. Removing and reserving paragraph (d).

The revision reads as follows:

§ 75.1600-2 Communication facilities; working sections; installation and maintenance requirements; audible or visual alarms.

* * * * *

(c) If a communication system other than telephones is used and its operation depends entirely upon power from the mine electric system, means shall be provided to permit continued communication in the event the mine electric power fails or is cut off.

(d) [Reserved]

* * * * *

Subpart T—Diesel-Powered Equipment

44. Revise § 75.1902(d)(2) to read as follows.:

§ 75.1902 Underground diesel fuel storage—general requirements.

* * * * *

(d) * * *

(2) At least 25 feet from power cables, or electric equipment not necessary for the operation of the storage facilities or areas; and

* * * * *

§ 75.1906 [Amended]

45. In § 75.1906, remove and reserve paragraph (j).

PART 77—MANDATORY SAFETY STANDARDS, SURFACE COAL MINES AND SURFACE WORK AREAS OF UNDERGROUND COAL MINES

46. The authority citation for part 77 continues to read as follows:

Authority: 30 U.S.C. 811.

Subpart S—[Removed and Reserved]

47. Remove and reserve Subpart S, consisting of §§ 77.1800 through 77.1802.

James P. McHugh,
Deputy Assistant Secretary for Policy, Mine Safety and Health Administration.

[FR Doc. 2025-11738 Filed 6-30-25; 8:45 am]

BILLING CODE 4520-43-P